DEPARTMENT OF HEALTH AND HUMAN SERVICES

National Institutes of Health

Notice of Establishment

Pursuant to the Federal Advisory Committee Act, as amended (5 U.S.C. Appendix 2), the Director, National Institutes of Health (NIH), announces the establishment of the NIH Office of Portfolio Analysis and Strategic Initiatives (OPASI) Council of Councils (Council).

The Council will consult with, and provide advice and recommendations to the Director NIH, the Director, OPASI, and the individual Institute and Center (IC) Directors on potential trans-NIH initiatives at the conceptual stage. The Council's advice and recommendations will assist the IC Directors in identifying trans-NIH initiatives to be pursued for further development.

Duration of this committee is two years from the date the Charter is filed.

Dated: August 8, 2006.
Elias Zerhouni,
Director, National Institutes of Health.

[FR Doc. 06-6966 Filed 8-16-06; 8:45 am]

BILLING CODE 4140-01-M